DEPARTMENT OF THE INTERIOR

Bureau of Reclamation

San Joaquin River Restoration Program: Reach 4B, Eastside Bypass, and Mariposa Bypass Channel and Structural Improvements Project, Merced County, CA

AGENCY: Bureau of Reclamation, Interior.

ACTION: Revised notice of intent to prepare an Environmental Impact Statement/Environmental Report (EIS/EIR) and Notice of Scoping Meeting.

SUMMARY: The Bureau of Reclamation and the California Department of Water Resources are revising our proposal to prepare a joint EIS/EIR on the effects of the proposed Reach 4B, Eastside Bypass, and Mariposa Bypass Channel and Structural Improvements Project under the San Joaquin River Restoration Program. The original notice of intent was published in the Federal Register on September 9, 2009 (74 FR 46453). This revised proposal would include measures for the conveyance of Interim and Restoration flows and incorporation of fish habitat through Reach 4B and/or the bypasses. When evaluating comments on this proposal, we will also consider comments that we received on the previous proposal.

DATES: Submit written comments on the scope of the EIS/EIR by December 22, 2010. We will hold a scoping meeting on Monday, December 6, 2010, from 6:30 to 8 p.m. in Los Banos, California.

ADDRESSES: Send written comments to Ms. Michelle Banonis, Natural Resources Specialist, Bureau of Reclamation, 2800 Cottage Way, MP-170, Sacramento, CA 95825 or via e-mail at reach4b@restoresjr.net. We will hold a public scoping meeting at the Miller and Lux Building, 830 6th Street, Los Banos, California.

FOR FURTHER INFORMATION CONTACT: Ms. Margaret Gidding, Outreach Coordinator, 2800 Cottage Way, MP-170, Sacramento, CA 95825, or via e-mail at mgidding@usbr.gov, by telephone at 916-978-5461, TDD 916-978-5608 or via fax at 916-978-5469. Additional information is available online at http://www.restoresjr.net.

SUPPLEMENTARY INFORMATION: The Proposed Action includes improving conveyance capacity in the San Joaquin River from the Reach 4B headgates near Washington Road to the confluence of the Mariposa Bypass with the San Joaquin River (generally referred to as Reach 4B1). The improvements will incorporate modifications to Reach 4B and the Eastside and Mariposa bypass channels to allow for conveyance of Interim and Restoration flows. Improvements will also include the incorporation of fish habitat in Reach 4B and/or the bypasses and maintain the current flood operations and conveyance capacity of the system. Additionally, the Proposed Action may result in an opportunity for improvements to the existing flood system. These improvements are intended to support paragraph 11 Settlement actions related to Reach 4B, the Eastside Bypass, and the Mariposa Bypass. The planning and environmental review for the Proposed Action is authorized under Section 3406(c)(1) of the Central Valley Project Improvement Act and the San Joaquin River Restoration Settlement (SJRRS) Act. Construction of the Proposed Action is authorized under Section 10004 of the SJRRS Act. The Proposed Action would be implemented consistent with the Settlement and the SJRRS Act.

San Joaquin River Restoration Program

In 1988, a coalition of environmental groups led by the Natural Resources Defense Council (NRDC) filed a lawsuit challenging the renewal of the long-term water service contracts between the United States and the Central Valley Project Friant Division Contractors. After more than 18 years of litigation known as NRDC, et al., v. Kirk Rodgers, et al., the NRDC, Friant Water Users Authority, and the Departments of the Interior and Commerce (Settling Parties) reached agreement on the terms and conditions of the San Joaquin River Stipulation of Settlement (Settlement) that was subsequently approved by the Court on October 23, 2006. The Settlement can be found online at http://www.restoresjr.net.

The Settlement is based on two parallel Goals:

• The Restoration Goal—To restore and maintain fish populations in “good condition” in the main stem of the San Joaquin River below Friant Dam to the confluence of the Merced River, including naturally reproducing and self-sustaining populations of salmon and other fish; and

• The Water Management Goal—To reduce or avoid adverse water supply impacts to all of the Friant Division long-term Contractors that may result from the Interim Flows and Restoration Flows provided for in the Settlement.

The Settling Parties acknowledge that accomplishing the Goals requires planning, implementation, and funding of certain activities, such as environmental review, design, and construction. With regard to the Restoration Goal, the Settlement calls for a combination of channel and structural improvements along the San Joaquin River below Friant Dam, releases of additional water from Friant Dam to the confluence of the Merced River, and the reintroduction of spring and/or fall-run Chinook salmon.

The Settlement states that the Secretary of the Interior shall diligently pursue completion of the improvements listed in Paragraph 11 in coordination with the Restoration Administrator and with other federal, state, and local agencies. Additionally, the Settling Parties agreed that implementation of the Settlement shall also require participation of the State of California. Therefore, concurrent with the execution of the Settlement, the Settling Parties entered into a Memorandum of Understanding with the State of California, by and through the California Resources Agency, DWR, the Department of Fish and Game (DFG), and the California Environmental Protection Agency, regarding the State's role in the implementation of the Settlement. The program established to implement the Settlement is the SJRRP, and the “Implementing Agencies” responsible for the management of the SJRRP include Reclamation, the U.S. Fish and Wildlife Service (USFWS), the National Marine Fisheries Service (NMFS), DWR, and DFG. The Federal Implementing Agencies (Reclamation, USFWS, and NMFS) are authorized to implement the Settlement under the SJRRS Act included in Public Law 111-11.

A Program Environmental Impact Statement/Environmental Impact Report (PEIS/EIR) is currently being developed for implementation of the SJRRP. If applicable, the EIS/EIR for the Proposed Action will supplement, tier from, incorporate by reference, or adopt relevant NEPA analyses from the PEIS/EIR once a Record of Decision is signed.

Special Assistance for Public Meetings

If special assistance is required to participate in the scoping meeting, please contact Ms. Margaret Gidding at 916-978-5461, by TDD 916-978-5608, or via e-mail at mgidding@usbr.gov. Please contact Ms. Gidding at least ten working days prior to the meeting.

Public Disclosure

Before including your name, address, phone number, e-mail address, or other personal identifying information in your comment, you should be aware that your entire comment—including your personal identifying information—may be publicly available at any time. While you can ask us in your comment to withhold your personal identifying information from public review, we cannot guarantee that we will be able to do so.

Dated: October 6, 2010.
Anastasia T. Leigh,
Acting Regional Environmental Officer, Mid-Pacific Region.

[FR Doc. 2010-29330 Filed 11-19-10; 8:45 am]

BILLING CODE 4310-MN-P